DEPARTMENT OF THE INTERIOR

Fish and Wildlife Service

[FWS-R2-ES-2012-N087; FXES11130200000F5-123-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973, as amended (Act), prohibits activities with endangered and threatened species unless a Federal permit allows such activities. The Act and the National Environmental Policy Act also require that we invite public comment before issuing these permits.

DATES: To ensure consideration, written comments must be received on or before June 13, 2012.

ADDRESSES: Marty Tuegel, Section 10 Coordinator, by U.S. mail at Division of Endangered Species, U.S. Fish and Wildlife Service, P.O. Box 1306, Room 6034, Albuquerque, NM 87107 at (505) 248-6920. Please refer to the respective permit number for each application when submitting comments.

FOR FURTHER INFORMATION CONTACT: Susan Jacobsen, Chief, Endangered Species Division, P.O. Box 1306, Albuquerque, NM 87103; (505) 248-6651.

SUPPLEMENTARY INFORMATION:

Public Availability of Comments

The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementation of section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to the requirements of the Privacy Act (5 U.S.C. 552a) and Freedom of Information Act (5 U.S.C. 552).

Permit TE-67487A

Applicant: Rogelio M. Rodriguez, Denver, Colorado.

Applicant requests a new permit for research and recovery purposes to conduct presence/absence surveys for lesser long-nosed bat (Leptonycteris curasoae yerbabuenae) and Mexican long-nosed bat (Leptonycteris nivalis) within Arizona and New Mexico.

Permit TE-67491A

Applicant: Permits West, Inc., Edgewood, New Mexico.

Applicant requests a new permit for research and recovery purposes to conduct presence/absence surveys of southwestern willow flycatcher (Empidonax traillii extimus) within Arizona, New Mexico, and Utah.

Permit TE-67494A

Applicant: Melanie Snyder, Lockhart, Texas.

Applicant requests a new permit for research and recovery purposes to conduct presence/absence surveys of black-capped vireo (Vireo atricapilla), golden-cheeked warbler (Dendroica chrysoparia), and Houston toad (Bufo houstonensis) within Texas.

Permit TE-70795A

Applicant: Bowers Environmental Consulting, Tucson, Arizona.

Applicant requests a new permit for research and recovery purposes to conduct presence/absences surveys of the following wildlife species, and leaf and flower collection of the following plant species across their ranges, as appropriate, within Arizona, New Mexico, and Texas:

• Arizona hedgehog cactus (Echinocereus triglochidiatus var. arizonicus)

• Black-footed ferret (Mustela nigripes)

• Gila topminnow (Poeciliopsis occidentalis)

• Huachuca water umbel (Lilaeopsis schaffneriana spp. recurva)

• Kearney's blue star (Amsonia kearneyana)

• Lesser long-nosed bat (Leptonycteris curasoae yerbabuenae)

• Loach minnow (Tiaroga cobitis)

• Nichol's Turk's head cactus (Echinocactus horizonthalonius var. nicholii)

• Pima pineapple cactus (Coryphantha scheeri var. robustispina)

• Razorback sucker (Xyrauchen texanus)

• Southwestern willow flycatcher (Empidonax traillii extimus)

• Spikedace (Meda fulgida)

• Yaqui topminnow (Poeciliopsis occidentalis sonorensis)

• Yuma clapper rail (Rallus longirostris yumanensis)

Permit TE-71473A

Applicant: Richard Sherwin, Newport News, Virginia.

Applicant requests a new permit for research and recovery purposes to conduct presence/absence surveys of lesser long-nosed bat (Leptonycteris curasoae yerbabuenae) and Mexican long-nosed bat (Leptonycteris nivalis) within Arizona and New Mexico.

Permit TE-71618A

Applicant: Museum of Southwestern Biology University of New Mexico Herbarium, Albuquerque, New Mexico.

Applicant requests a new permit for research and recovery purposes to conduct presence/absence surveys; collect flowers, seeds, and voucher specimens; conduct genetic analysis; and conduct a pollinator study of the following endangered plants within New Mexico:

• Argemone pleiacantha ssp. pinnatisecta (Sacramento prickly poppy)

• Astragalus humillimus (Mancos milkvetch)

• Coryphantha sneedii var. sneedii (Sneed's pincushion cactus)

• Echinocereus fendleri var. kuenzleri (Kuenzler's hedgehog cactus)

• Hedeoma todsenii (Todsen's pennyroyal)

• Ipomopsis sancti-spiritus (Holy Ghost ipomopsis)

• Pediocactus knowltonii (Knowlton's cactus)

Permit TE-001623

Applicant: American Southwest Ichthyological Researchers, LLC, Albuquerque, New Mexico.

Applicant requests an amendment to a current permit for research and recovery purposes to conduct distributional investigations, population monitoring, population estimation, spawning activities documentation, movement studies, genetic studies, habitat association studies, and life history studies of Gila chub (Gila intermedia), loach minnow (Tiaroga cobitis), and spikedace (Meda fulgida) within New Mexico.

Permit TE-43746A

Applicant: Northern Arizona University, Flagstaff, Arizona.

Applicant requests an amendment to a current permit for research and recovery purposes to conduct presence/absence surveys for southwestern willow flycatcher (Empidonax traillii extimus) within Nevada and Utah.

Permit TE-71870A

Applicant: Western Area Power Administration, Phoenix, Arizona.

Applicant requests a new permit for research and recovery purposes to conduct presence/absence surveys of southwestern willow flycatcher (Empidonax traillii extimus) and Yuma clapper rail (Rallus longirostris yumanensis) within Arizona.

Permit TE-026711

Applicant: U.S. Department of Agriculture—Forest Service, Flagstaff, Arizona.

Applicant requests an amendment to a current permit for research and recovery purposes to conduct presence/absence surveys and monitoring for repatriation of loach minnow (Tiaroga cobitis) and spikedace (Meda fulgida) within the Coconino National Forest.

Permit TE-66055A

Applicant: SWCA Inc., Flagstaff, Arizona.

Applicant requests an amendment to a current permit for research and recovery purposes to conduct presence/absence surveys and monitoring of loach minnow (Tiaroga cobitis) and spikedace (Meda fulgida) within Arizona.

Permit TE-72065A

Applicant: Prescott National Forest, Prescott, Arizona.

Applicant requests a new permit for research and recovery purposes to conduct presence/absence surveys of the following species within Arizona:

• Colorado pikeminnow (Ptychocheilus lucius)

• Desert pupfish (Cyprinodon macularius)

• Gila chub (Gila intermedia)

• Gila topminnow (Poeciliopsis occidentalis occidentalis)

• Loach minnow (Tiaroga cobitis)

• Razorback sucker (Xyrauchen texanus)

• Southwestern willow flycatcher (Empidonax traillii extimus)

• Spikedace (Meda fulgida)

Permit TE-72079A

Applicant: John Rinne, Flagstaff, Arizona.

Applicant requests a new permit for research and recovery purposes to conduct presence/absence surveys of loach minnow (Tiaroga cobitis) and spikedace (Meda fulgida) within New Mexico.

Permit TE-800611

Applicant: SWCA, Inc., San Antonio, Texas.

Applicant requests a new permit for research and recovery purposes to conduct presence/absence surveys of Indiana bat (Myotis sodalis) and gray bat (Myotis grisescens) throughout the species' ranges, as appropriate, within Alabama, Arkansas, Florida, Georgia, Illinois, Indiana, Iowa, Kansas, Kentucky, Mississippi, Missouri, New Jersey, New York, North Carolina, Ohio, Oklahoma, Pennsylvania, Tennessee, Vermont, Virginia, and West Virginia.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Public Availability of Comments

All comments and materials we receive in response to this request will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Authority: We provide this notice under section 10 of the Act (16 U.S.C. 1531 et seq.)

Dated: April 30, 2012.
Joy E. Nicholopoulos,
Acting Regional Director, Southwest Region.

[FR Doc. 2012-11553 Filed 5-11-12; 8:45 am]

BILLING CODE 4310-55-P